DEPARTMENT OF JUSTICE

[OMB Number—NEW]

Agency Information Collection Activities; Proposed eCollection eComments Requested; Approval of a New Collection; Public Benefit Conveyance Program Guidance and Application

AGENCY: Bureau of Justice Assistance, Department of Justice.

ACTION: 60-Day notice.

SUMMARY: The Department of Justice, Bureau of Justice Assistance, is submitting the following information collection request to the Office of Management and Budget (OMB) for review and approval in accordance with the Paperwork Reduction Act of 1995.

DATES: Comments are encouraged and will be accepted for 60 days until April 20, 2020.

FOR FURTHER INFORMATION CONTACT: If you have additional comments especially on the estimated public burden or associated response time, suggestions, or need a copy of the proposed information collection instrument with instructions or additional information, please contact Michelle Martin, Director of Communications, Bureau of Justice Assistance, 810 Seventh Street NW, Washington, DC 20531 (phone: 202-514-9354).

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Approval of a new collection.

2. The Title of the Form/Collection: Public Benefit Conveyance Program Guidance and Application.

3. The agency form number, if any, and the applicable component of the Department sponsoring the collection: None.

4. Affected public who will be asked or required to respond, as well as a brief abstract:

Primary: The following entities are eligible to apply: The 50 states, the District of Columbia, the Commonwealth of Puerto Rico, Guam, American Samoa, the Virgin Islands, the Federated States of Micronesia, the Marshall Islands, Palau, and the Northern Mariana Islands or political subdivisions or instrumentalities of states that propose to use the subject property for law enforcement and/or correctional facility purposes.

Abstract: The General Services Administration (GSA) promotes the effective use of federal real property assets, as well as the disposal of real property that is no longer mission critical to federal agencies. Through the Public Benefit Conveyance Program, surplus federal land and buildings are conveyed to public entities at no cost, pursuant to 40 U.S.C. 541, et seq., and applicable regulations. Eligible applicants must propose to use the subject property for law enforcement and/or correctional facility purposes.

5. An estimate of the total number of respondents and the amount of time estimated for an average respondent to respond: It is estimated that no more than 5 applications are received annually. Each application takes approximately 120 minutes to complete and is submitted once.

6. An estimate of the total public burden associated with the collection: The total burden to complete the application is approximately 120 minutes.

If additional information is required contact: Melody Braswell, Department Clearance Officer, United States Department of Justice, Justice Management Division, Policy and Planning Staff, Two Constitution Square, 145 N Street NE, 3E.405A, Washington, DC 20530.

Dated: February 13, 2020.
Melody Braswell,
Department Clearance Officer for PRA, U.S. Department of Justice.

[FR Doc. 2020-03307 Filed 2-19-20; 8:45 am]

BILLING CODE 4410-CW-P